DEPARTMENT OF DEFENSE

Office of the Secretary

[Docket ID: DoD-2022-OS-0026]

Submission for OMB Review; Comment Request

AGENCY: Office of the Under Secretary of Defense for Personnel and Readiness (OUSD(P&R)), Department of Defense (DoD).

ACTION: 30-Day information collection notice.

SUMMARY: The Department of Defense has submitted to OMB for clearance the following proposal for collection of information under the provisions of the Paperwork Reduction Act.

DATES: Consideration will be given to all comments received by July 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Job Challenge Participant Focus Groups; OMB Control Number 0704-JCFG.

Type of Request: New.

Number of Respondents: 60.

Responses per Respondent: 1.

Annual Responses: 60.

Average Burden per Response: 75 minutes.

Annual Burden Hours: 75 hours.

Needs and Uses: 32 U.S. Code 509, “National Guard Youth Challenge Program of Opportunities for Civilian Youth” seeks to “improve life skills and employment potential of participants by providing military-based training and supervised work experience, together with the core program components of assisting participants, to receive a high school diploma or its equivalent, leadership development, etc.” Job Challenge is an extension of Youth Challenge and provides technical and career training to graduates of Youth Challenge.

This collection is part of a study examining the implementation of the Job Challenge program across its six operating sites. This program focuses on underserved populations and communities and brings them into alignment with Executive Order (E.O.) 13985, which directs the Federal Government to work to advance equity, with a focus on historically underserved communities. The E.O. also directs resources to be allocated to advance fairness and opportunity. The results of this collection will help inform site operations and continuous program improvement. This information is being collected to better understand program participants' experiences and perceptions. This information will be used to help inform site operations, program policy decisions, and drive continuous program improvement.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: June 15, 2022.
Aaron T. Siegel,
Alternate OSD Federal Register Liaison Officer, Department of Defense.

[FR Doc. 2022-13240 Filed 6-17-22; 8:45 am]

BILLING CODE 5001-06-P